DEPARTMENT OF TRANSPORTATION

Federal Railroad Administration

[Docket Number FRA-2006-23687]

Petition for Approval of Product Safety Plan

In accordance with part 211 of title 49 of the Code of Federal Regulations (CFR), this document provides the public notice that by a document dated August 3, 2015, BNSF Railway (BNSF) has petitioned the Federal Railroad Administration (FRA) for approval of its Product Safety Plan (PSP) for its ElectroBlox Wayside Interface Unit (WIU). FRA assigned the petition Docket Number FRA-2006-23687.

The PSP submitted is intended to meet the requirements prescribed in 49 CFR part 236, subpart H, Standards for Processor-Based Signal and Train Control Systems, in § 236.907. As such, BNSF maintains that the ElectroBlox system was designed in a safe manner, reliably executes the functions of an interoperable Positive Train Control (PTC) wayside component, and does not result in risk that exceeds the previous condition.

The ElectroBlox system is used to translate discrete vital inputs into wayside status messages that comply with the Interoperable Train Control (ITC) WIU specification. This system targets applications where existing microprocessor-based equipment either does not exist or in lieu of integrated WIU PTC upgrades to existing electronic signal controllers.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 19, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on August 27, 2015.
Ron Hynes,
Director, Office of Technical Oversight.

[FR Doc. 2015-21721 Filed 9-1-15; 8:45 am]

BILLING CODE 4910-06-P